DEPARTMENT OF LABOR

Occupational Safety and Health Administration

[Docket No. ICR-1218-0103 (2001)]

Ionizing Radiation Standard; Extension of the Office of Management and Budget's (OMB) Approval of the Information-Collection (Paperwork) Requirements

AGENCY: Occupational Safety and Health Administration (OSHA), Labor.

ACTION: Notice of an opportunity for public comment.

SUMMARY: OSHA solicits comments concerning its proposal to decrease the existing burden-hour estimates, and to extend OMB approval of the collection-of-information requirements, of the Ionizing Radiation Standard (29 CFR 1910.1096).

DATES: Submit written comments on or before July 2, 2001.

ADDRESSES: Submit written comments to the Docket Office, Docket No. ICR-1218-0103 (2001), OSHA, U.S. Department of Labor, Room N-2625, 200 Constitution Avenue, NW., Washington, DC 20210; telephone (202) 693-2350. Commenters may transmit written comments of 10 pages or less by facsimile to (202) 693-1648.

FOR FURTHER INFORMATION CONTACT: Todd Owen, Directorate of Policy, OSHA, U.S. Department of Labor, Room N-3641, 200 Constitution Avenue, NW., Washington, DC 20210; telephone (202) 693-2444. A copy of the Agency's Information-Collection Request (ICR) supporting the need for the information collections specified in the Ionizing Radiation Standard is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

The information-collection requirements mandated by the Ionizing Radiation Standard (§ 1910.1096; hereafter, “Standard”) protect employees from the adverse health effects that may result from overexposure to ionizing radiation. These requirements specify that employers must telephone OSHA if they expose employees to radiation above the level defined by the Standard, send written reports of radiation overexposure to OSHA, maintain employee exposure records, and furnish these records to employees on request.

II. Special Issues for Comment

OSHA has particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA proposes to decrease the existing burden-hour estimate, and to extend OMB approval, of the collection-of-information requirements in the Standard. In this regard, the Agency is proposing to decrease the current burden-hour estimate from 42,491 hours to 27,642 hours, a total reduction of 14,849 hours. The Agency will summarize the comments submitted in response to this notice, and will include this summary in its request to OMB to extend the approval of these information-collection requirements.

Type of Review: Extension of currently approved information-collection requirements.

Title: Ionizing Radiation (29 CFR 1910.1096).

OMB Number: 1218-0103.

Affected Public: Business or other for-profit; not-for-profit institutions; Federal government; State, local or tribal governments.

Number of Respondents: 12,113.

Frequency of Response: Occasionally.

Average Time per Response: Time per response varies from 5 minutes (.08 hour) to maintain radiation-exposure records to 15 minutes (.25 hour) for employers to prepare a written report of employee overexposure for submission to OSHA.

Estimated Total Burden Hours: 27,642 hours.

Estimated Cost (Operation and Maintenance): $1,719,720.

IV. Authority and Signature

R. Davis Layne, Acting Assistant Secretary of Labor for Occupational Safety and Health, directed the preparation of this notice. The authority for this notice is the Paperwork Reduction Act of 1995 (44 U.S.C. 3506), Secretary of Labor's Order No. 3-2000 (65 FR 50017).

Signed at Washington, DC on April 27th, 2001.
R. Davis Layne,
Acting Assistant Secretary of Labor.

[FR Doc. 01-11022 Filed 5-1-01; 8:45 am]

BILLING CODE 4510-26-M